DEPARTMENT OF THE INTERIOR

National Park Service

[N6712; NPS-WASO-NAGPRA-NPS0041454; PPWOCRADN0-PCU00RP14.R50000]

Notice of Inventory Completion: David A. Fredrickson Archaeological Collections Facility at Sonoma State University, Rohnert Park, CA

AGENCY: National Park Service, Interior.

ACTION: Notice.

SUMMARY: In accordance with the Native American Graves Protection and Repatriation Act (NAGPRA), the Sonoma State University has completed an inventory of associated funerary objects and has determined that there is a cultural affiliation between the associated funerary objects and Indian Tribes or Native Hawaiian organizations in this notice.

DATES: Repatriation of the associated funerary objects in this notice may occur on or after January 20, 2026.

ADDRESSES: Send written requests for repatriation of the associated funerary objects in this notice to Elise-Alexandria Green, Sonoma State University, 1801 East Cotati Avenue, Rohnert Park, CA 94928, email elise.green@sonoma.edu.

SUPPLEMENTARY INFORMATION: This notice is published as part of the National Park Service's administrative responsibilities under NAGPRA. The determinations in this notice are the sole responsibility of the Sonoma State University, and additional information on the determinations in this notice, including the results of consultation, can be found in the inventory or related records. The National Park Service is not responsible for the determinations in this notice.

Abstract of Information Available

Based on the information available, 773 lots of associated funerary objects have been identified from sites located in Bodega Bay, Sonoma County California.

Based on the information available, 241 lots of associated funerary items were removed from CA-SON-292. In 1992, human remains from archaeological sites CA-SON-292 were repatriated under California Public Resources Code § 5097.94 through the Native American Heritage Commission to the Most Likely Descendants of Coast Miwok and Southern Pomo in Marin and Sonoma Counties, California. This notice accounts for the additional associated funerary objects. The cultural items were removed from their location in 1968 by Western Heritage Inc. and Dr. David A. Fredrickson. The associated funerary items include modified stone, unmodified stone, modified faunal, unmodified faunal, modified shell, unmodified shell, ground stone tools, historic material, charcoal. The items have been housed at Sonoma State University since 1968.

Based on the information available, two lots of associated funerary items were removed from CA-SON-294. CA-SON-294 was excavated in 1968 by Western Heritage Inc. and Dr. David A. Fredrickson. The associated funerary items include historic material. The items have been housed at Sonoma State University since 1968.

Based on the information available, 109 lots of associated funerary items were removed from CA-SON-324. CA-SON-324 was excavated in 1968 by Western Heritage Inc. and Dr. David A. Fredrickson. The cultural items include modified stone, unmodified stone, modified faunal, unmodified faunal, modified shell, unmodified shell, ground stone tools, historic material. The items have been housed at Sonoma State University since 1968.

Based on the information available, 414 lots of associated funerary items were removed from CA-SON-300. The cultural items were removed from their location during the Bodega Bay test excavation in 1976 and have been housed at Sonoma State University since. The cultural items include modified stone, unmodified stone, unmodified faunal, unmodified shell, ground stone tools, historic material, charcoal, botanical material.

Based on the information available, seven lots of associated funerary items were removed from CA-SON-1099. The cultural items were removed from their location during the Filippa Property Survey in 1978 contracted by the Sonoma County Planning Department and have been housed at Sonoma State University since. The cultural items include modified stone and unmodified stone. At the time of the inventory verification these items were not physically located Sonoma State will continue to look for these items with the intent of repatriation.

In the case of missing cultural items, all items when located will also be repatriated from the collections discussed above. Based on records concerning the cultural items and the institution in which they are housed, there is no evidence of the items being treated with hazardous substances

Cultural Affiliation

Based on the information available and the results of consultation, cultural affiliation is identified clearly by information available, including oral traditional, geographical, and biological information described in this notice and the Federated Indians of Graton Rancheria, California.

Determinations

The Sonoma State University has determined that:

• The 773 objects described in this notice are reasonably believed to have been placed intentionally with or near individual human remains at the time of death or later as part of the death rite or ceremony.

• There is a reasonable connection between the associated funerary objects described in this notice and the Federated Indians of Graton Rancheria, California.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the associated funerary objects in this notice to a requestor may occur on or after January 20, 2026. If competing requests for repatriation are received, the Sonoma State University must determine the most appropriate requestor prior to repatriation. Requests for joint repatriation of the associated funerary objects are considered a single request and not competing requests. The Sonoma State University is responsible for sending a copy of this notice to the Indian Tribes and Native Hawaiian organizations identified in this notice.

Authority: Native American Graves Protection and Repatriation Act, 25 U.S.C. 3003, and the implementing regulations, 43 CFR 10.10.

Dated: November 25, 2025.
Melanie O'Brien,
Manager, National NAGPRA Program.

[FR Doc. 2025-23158 Filed 12-17-25; 8:45 am]

BILLING CODE 4312-52-P